ENVIRONMENTAL PROTECTION AGENCY

40 CFR Parts 60, 62, and 78

[EPA-HQ-OAR-2015-0199; FRL 9936-27-OAR]

RIN 2060-AS47

Federal Plan Requirements for Greenhouse Gas Emissions From Electric Utility Generating Units Constructed on or Before January 8, 2014; Model Trading Rules; Amendments to Framework Regulations

AGENCY: Environmental Protection Agency (EPA).

ACTION: Notice of public hearings.

SUMMARY: The Environmental Protection Agency (EPA) is announcing four public hearings to be held on the proposed “Federal Plan Requirements for Greenhouse Gas Emissions from Electric Utility Generating Units Constructed on or before January 8, 2014; Model Trading Rules; Amendments to Framework Regulations.”

DATES: The EPA will be holding four public hearings on the proposed federal plan to accept oral comments.

The hearings will be held:

1. November 12-13, 2015 in Pittsburgh, PA.

2. November 16-17, 2015, in Denver, Colorado.

3. November 18-19, 2015 in Washington, DC.

4. November 19-20, 2015 in Atlanta, Georgia.

The first hearing day in all locations will begin at 9:00 a.m. (local time) and will conclude at 8:00 p.m. (local time). The second hearing day in all locations will begin at 9:00 a.m. (local time) and conclude at 5:00 p.m. (local time).

ADDRESSES: The hearings will be held in:

1. Pittsburgh, Pennsylvania, on November 12-13, at the William S. Moorhead Federal Building, 1000 Liberty Avenue, Room 1310, Pittsburgh, Pennsylvania 15222;

2. Denver, Colorado, on November 16-17, 2015, at the EPA Region 8 office, 1595 Wynkoop Street, Denver, Colorado 80202;

3. Washington, DC, on November 18-19, 2015, at the EPA William Jefferson Clinton East Building, 1201 Constitution Avenue NW., Washington, DC 20004; and

4. Atlanta, Georgia, on November 19-20, 2015, at the Sam Nunn Atlanta Federal Center Main Tower Bridge Conference Center, 61 Forsyth Street SW., Atlanta, Georgia 30303.

The hearings on the first day in all locations will begin at 9:00 a.m. (local time) and will conclude at 8:00 p.m. (local time). The hearings on the second day in all locations will begin at 9:00 a.m. (local time) and will conclude at 5:00 p.m. (local time). There will be a lunch break from 12:00 p.m. to 1:00 p.m. and a dinner break from 5:00 p.m. to 6:00 p.m. (on the first day of hearings only).

FOR FURTHER INFORMATION CONTACT: To register to speak at a hearing, please use the online registration form available at http://www.epa.gov/cleanpowerplan or contact Ms. Virginia Hunt at (919) 541-0832 or at hunt.virginia@epa.gov. The last day to pre-register to speak at the Pittsburgh, Pennsylvania, hearing will be Tuesday, November 10, 2015, and the last day to pre-register to speak at the Denver, Colorado, Washington, DC, and Atlanta, Georgia, hearings will be Thursday, November 12, 2015. Additionally, requests to speak will be taken the day of each hearing at the hearing registration desk, although preferences on speaking times may not be able to be fulfilled. Please note that registration requests received before each hearing will be confirmed by the EPA via email. We cannot guarantee that we can accommodate all timing requests and will provide requestors with the next available speaking time, in the event that their requested time is taken. Please note that the time outlined in the confirmation email received will be the scheduled speaking time. Again, depending on the flow of the day, times may fluctuate. If you require the service of a translator or special accommodations such as audio description, we ask that you pre-register for the hearings by Friday, November 6, 2015, as we may not be able to arrange such accommodations without advance notice. Please note that any updates made to any aspect of the hearings will be posted online at http://www.epa.gov/cleanpowerplan. While the EPA expects the hearings to go forward as set forth above, we ask that you monitor our Web site or contact Ms. Virginia Hunt at (919) 541-0832 or at hunt.virginia@epa.gov to determine if there are any updates to the information on the hearings. The EPA does not intend to publish a notice in the Federal Register announcing any such updates.

SUPPLEMENTARY INFORMATION: The hearings will provide interested parties the opportunity to present data, views, or arguments concerning the proposed action. The EPA will make every effort to accommodate all speakers who wish to register to speak at the hearing venue on the day of the hearing. The EPA may ask clarifying questions during the oral presentations, but will not respond to the presentations at that time. Written statements and supporting information submitted during the comment period will be considered with the same weight as oral comments and supporting information presented at the public hearing. Verbatim transcripts of the hearing and written statements will be included in the docket for the rulemaking. The EPA plans for the hearings to run on schedule; however, due to on-site schedule fluctuations, actual speaking times may shift slightly.

Because these hearings are being held at United States government facilities, individuals planning to attend the hearing should be prepared to show valid picture identification to the security staff in order to gain access to the meeting room. Please note that the REAL ID Act, passed by Congress in 2005, established new requirements for entering federal facilities. If your driver's license is issued by Alaska, American Samoa, Arizona, Kentucky, Louisiana, Maine, Massachusetts, Minnesota, Montana, New York, Oklahoma, or the state of Washington, you must present an additional form of identification to enter the federal building. Acceptable alternative forms of identification include: Federal employee badges, passports, enhanced driver's licenses, and military identification cards. In addition, you will need to obtain a property pass for any personal belongings you bring with you. Upon leaving the building, you will be required to return this property pass to the security desk. No large signs will be allowed in the building, cameras may only be used outside of the building, and demonstrations will not be allowed on federal property for security reasons.

Attendees will be asked to go through metal detectors. To help facilitate this process, please be advised that you will be asked to remove all items from all pockets and place them in provided bins for screening; remove laptops, phones, or other electronic devices from their carrying case and place in provided bins for screening; avoid shoes with metal shanks, toe guards, or supports as a part of their construction; remove any metal belts, metal belt buckles, large jewelry, watches, and follow the instructions of the guard if identified for secondary screening. Additionally, no weapons (e.g., pocket knives) or drugs or drug paraphernalia (e.g., marijuana) will be allowed in the building. We recommend that you arrive 20 minutes in advance of your speaking time to allow time to go through security and to check in with the registration desk.

How can I get copies of this document and other related information?

For more information on this rulemaking, please visit http://www.epa.gov/cleanpowerplan. For questions regarding this rulemaking, please contact: Ms. Toni Jones, Fuels and Incineration Group, Sector Policies and Programs Division (E143-05), Environmental Protection Agency, Research Triangle Park, North Carolina 27711; telephone number: (919) 541-0316; fax number: (919) 541-3470; email address: jones.toni@epa.gov.

Dated: October 22, 2015.
Mary E. Henigin,
Acting Director, Office of Air Quality Planning and Standards.

[FR Doc. 2015-27367 Filed 10-27-15; 8:45 am]

BILLING CODE 6560-50-P